DEPARTMENT OF JUSTICE

Notice of Lodging of Proposed Consent Decree Under the Solid Waste Disposal Act

Notice is hereby given that, on June 24, 2010, a proposed Consent Decree in United States v. Jim's Water Services, Inc., Civil Action No. 2:10-CV-00128-ABJ, was lodged with the United States District Court for the District of Wyoming.

The proposed Consent Decree will settle the United States' claims on behalf of the United States Environmental Protection Agency (“EPA”) for violations of Section 7003 of the Solid Waste Disposal Act (as amended by the Resource Conservation and Recovery Act), 42 U.S.C. 6973, in connection with Defendant's failure to comply with an Administrative Order issued by EPA requiring Defendant to take certain actions to abate an imminent and substantial endangerment, particularly to wildlife, at its commercial oilfield waste disposal facility, located in Campbell County, Wyoming. The Consent Decree resolves all claims in the Complaint in return for payment by the Defendant of $125,000. Because EPA has determined that the Defendant is now in compliance with the terms of the Administrative Order, the Decree does not require any injunctive relief.

Pursuant to 42 U.S.C. 6973(d), the public shall be afforded a reasonable opportunity to comment on the proposed settlement and/or to request that a public meeting be held in the affected area. Accordingly, the Department of Justice will receive comments relating to the proposed Consent Decree for a period of 30 days from the date of this publication. Comments on the Consent Decree, or a request for a public meeting, should be addressed to the Assistant Attorney General, Environment and Natural Resources Division, and either e-mailed to pubcomment-ees.enrd@usdoj.gov or mailed to P.O. Box 7611, U.S. Department of Justice, Washington, DC 20044-7611, and should refer to United States v. Jim's Water Services, Inc., Civil Action No. 2:10-CV-00128-ABJ, D.J. Ref. No. 90-7-1-07997.

The proposed Consent Decree may be examined at the Office of the United States Attorney for the District of Wyoming, 2120 Capitol Avenue, J.C. O'Mahoney Federal Building, Cheyenne, Wyoming, and at the offices of the United States Environmental Protection Agency, Region 8, 1595 Wynkoop Street, Denver, Colorado 80202. During the public comment period, the proposed Consent Decree may also be examined on the following Department of Justice Web site: http://www.usdoj.gov/enrd/Consent_Decrees.html. A copy of the proposed Consent Decree may also be obtained by mail from the Consent Decree Library, P.O. Box 7611, United States Department of Justice, Washington, DC 20044-7611 or by faxing or e-mailing a request to Tonia Fleetwood (tonia.fleetwood@usdoj.gov), fax number (202) 514-0097, phone number (202) 514-1547. If requesting a copy by mail from the Consent Decree Library, please enclose a check in the amount of $2.25 ($0.25 per page reproduction cost) payable to the United States Treasury or, if requesting by e-mail or fax, forward the check in that amount to the Consent Decree Library at the address stated above.

Maureen Katz,
Assistant Chief, Environmental Enforcement Section, Environment and Natural Resources Division.

[FR Doc. 2010-16395 Filed 7-6-10; 8:45 am]

BILLING CODE 4410-15-P